DEPARTMENT OF ENERGY

Federal Energy Regulatory Commission

Combined Notice of Filings #1

Take notice that the Commission received the following electric rate filings:

Docket Numbers: ER10-2994-005.

Applicants: Iberdrola Renewables, Inc.

Description: Iberdrola Renewables, Inc. submits tariff filing per 35: Notice of Succession to be effective 4/6/2012.

Filed Date: 4/5/12.

Accession Number: 20120405-5173.

Comments Due: 5 p.m. ET 4/26/12.

Docket Numbers: ER10-3300-001 ; ER10-3099-002; ER12-1436-001; ER12-1260-001.

Applicants: Stephentown Spindle, LLC, RC Cape May Holdings, LLC, Eagle Point Power Generation, La Paloma Generating Company, LLC.

Description: Market-Based Rate Notice of Change in Status of La Paloma Generating Company, LLC, et al.

Filed Date: 4/5/12.

Accession Number: 20120405-5190.

Comments Due: 5 p.m. ET 4/26/12.

Docket Numbers: ER11-3949-004.

Applicants: New York Independent System Operator, Inc.

Description: New York Independent System Operator, Inc. submits tariff filing per 35: NYISO Compliance filing—Verification of MP Risk Mgmt Policies and Procedures to be effective 6/30/2012.

Filed Date: 4/5/12.

Accession Number: 20120405-5146.

Comments Due: 5 p.m. ET 4/26/12.

Docket Numbers: ER12-30-000.

Applicants: BlueStar Energy Services Inc.

Description: BlueStar Energy Services Inc. submits tariff filing per: Change in Status to be effective N/A.

Filed Date: 4/5/12.

Accession Number: 20120405-5176.

Comments Due: 5 p.m. ET 4/26/12.

Docket Numbers: ER12-1223-001.

Applicants: Wildcat Wind, LLC.

Description: Supplement to Application for Market-Based Rate Authorization to be effective 5/1/2012.

Filed Date: 4/5/12.

Accession Number: 20120405-5136.

Comments Due: 5 p.m. ET 4/26/12.

Docket Numbers: ER12-1450-000.

Applicants: Union Electric Company.

Description: Union Electric Company submits Notice of Cancellation of Wholesale Distribution Agreement with Owensville, Missouri.

Filed Date: 4/5/12.

Accession Number: 20120405-5131.

Comments Due: 5 p.m. ET 4/26/12.

Docket Numbers: ER12-1451-000.

Applicants: Entergy Arkansas, Inc.

Description: Entergy Arkansas, Inc. submits tariff filing per 35.13(a)(2)(iii: Brazos NITSA NOA Filing to be effective 6/1/2012.

Filed Date: 4/5/12.

Accession Number: 20120405-5144.

Comments Due: 5 p.m. ET 4/26/12.

Docket Numbers: ER12-1452-000.

Applicants: Bangor Hydro Electric Company.

Description: Bangor Hydro Electric Company submits tariff filing per 35.13(a)(2)(iii: Filing of an Amended Interconnection Agreement to be effective 4/4/2012.

Filed Date: 4/5/12.

Accession Number: 20120405-5145.

Comments Due: 5 p.m. ET 4/26/12.

Docket Numbers: ER12-1453-000.

Applicants: ISO New England Inc., Fitchburg Gas and Electric Light Company.

Description: FG&E Request for Updated Depreciation Rates to be effective 6/1/2012.

Filed Date: 4/6/12.

Accession Number: 20120406-5055.

Comments Due: 5 p.m. ET 4/27/12.

Docket Numbers: ER12-1454-000.

Applicants: PJM Interconnection, L.L.C.

Description: Original Service Agreement No. 3265; Queue No. X1-042 to be effective 3/2/2012.

Filed Date: 4/6/12.

Accession Number: 20120406-5071.

Comments Due: 5 p.m. ET 4/27/12.

Docket Numbers: ER12-1455-000.

Applicants: ISO New England Inc.

Description: Revisions to FCM Rules Related to Inf. Publication to be effective 6/5/2012.

Filed Date: 4/6/12.

Accession Number: 20120406-5072.

Comments Due: 5 p.m. ET 4/27/12.

Docket Numbers: ER12-1456-000.

Applicants: Black Hills Power, Inc.

Description: BH Power, Inc., JOATT Replacement Sections to be effective 8/1/2011.

Filed Date: 4/6/12.

Accession Number: 20120406-5089.

Comments Due: 5 p.m. ET 4/27/12.

Docket Numbers: ER12-1457-000.

Applicants: Southern California Edison Company.

Description: Unexecuted GIA and Service Agreement with San Gorgonio Farms, Inc. to be effective 3/23/2012.

Filed Date: 4/6/12.

Accession Number: 20120406-5097.

Comments Due: 5 p.m. ET 4/27/12.

Docket Numbers: ER12-1458-000.

Applicants: Southern California Edison Company.

Description: Amended SGIA WDAT SCE-CSDLAC for Puente Hills Project to be effective 4/7/2012.

Filed Date: 4/6/12.

Accession Number: 20120406-5107.

Comments Due: 5 p.m. ET 4/27/12.

Docket Numbers: ER12-1459-000.

Applicants: Midwest Independent Transmission System Operator, Inc.

Description: 04-06-2012 Attachment L Revisions to be effective 5/7/2012.

Filed Date: 4/6/12.

Accession Number: 20120406-5124.

Comments Due: 5 p.m. ET 4/27/12.

Docket Numbers: ER12-1460-000.

Applicants: Southwest Power Pool, Inc.

Description: 2404 Oklahoma Gas and Electric Company Interconnection Agreement to be effective 6/1/2012.

Filed Date: 4/6/12.

Accession Number: 20120406-5129.

Comments Due: 5 p.m. ET 4/27/12.

Take notice that the Commission received the following electric securities filings:

Docket Numbers: ES12-30-000.

Applicants: Citizens Sunrise Transmission LLC.

Description: Application for Authorization of Issuance of Long-Term Debt Securities under FPA Section 204 and Request for Expedited Consideration of Citizens Sunrise Transmission LLC.

Filed Date: 4/5/12.

Accession Number: 20120405-5188.

Comments Due: 5 p.m. ET 4/26/12.

Docket Numbers: ES12-31-000.

Applicants: American Transmission Company LLC, ATC Management Inc.

Description: Application under Section 204 of The Federal Power Act for Authorization to Issue Securities of American Transmission Company LLC.

Filed Date: 4/6/12.

Accession Number: 20120406-5082.

Comments Due: 5 p.m. ET 4/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2012.
Nathaniel J. Davis, Sr.,
Deputy Secretary.

[FR Doc. 2012-9023 Filed 4-13-12; 8:45 am]

BILLING CODE 6717-01-P